NATIONAL SCIENCE FOUNDATION

Sunshine Act Meetings; National Science Board

The National Science Board's Task Force on Administrative Burdens, pursuant to NSF regulations (45 CFR Part 614), the National Science Foundation Act, as amended (42 U.S.C. 1862n-5), and the Government in the Sunshine Act (5 U.S.C. 552b), hereby gives notice of the scheduling of a teleconference for the transaction of National Science Board business and other matters specified, as follows:

DATE & TIME: Thursday, January 30, 2014, 4 p.m.-5 p.m. EST.

SUBJECT MATTER: Task Force members will discuss a draft report and recommendations.

STATUS: Open

This meeting will be held by teleconference. A public listening line will be available. Members of the public must contact the Board Office (call 703-292-7000 or send an email message to nationalsciencebrd@nsf.gov) at least 24 hours prior to the teleconference for the public listening number. Please refer to the National Science Board Web site www.nsf.gov/nsb for additional information and schedule updates (time, place, subject matter or status of meeting) which may be found at http://www.nsf.gov/nsb/notices/. Point of contact for this meeting is Lisa Nichols or John Veysey.

Ann Bushmiller,
Senior Counsel to the National Science Board.

[FR Doc. 2014-00084 Filed 1-3-14; 4:15 pm]

BILLING CODE 7555-01-P